DEPARTMENT OF COMMERCE

International Trade Administration

Yeshiva University, Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, DC.

Docket Number: 00-023. Applicant: Yeshiva University, Bronx, NY 10461. Instrument: Q Pix Colony Picker. Manufacturer: Genetix Ltd., United Kingdom. Intended Use: See notice at 65 FR 49966, August 16, 2000.

Comments: None received. Decision: Approved. No instrument of equivalent scientific value to the foreign instrument, for such purposes as it is intended to be used, is being manufactured in the United States. Reasons: The foreign instrument provides picking of clones containing DNA of interest from subclone libraries of bacterial artificial chromosomes with a picking rate of 3500 clones per hour and gridding of 100,000 samples per hour. The National Institutes of Health advises in its memorandum of August 10, 2000 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-24037 Filed 9-18-00; 8:45 am]

BILLING CODE 3510-DS-P